FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 012064-004.

Title: Hapag-Lloyd/NYK Mexico-Dominican Republic Slot Exchange Agreement.

Parties: Hapag-Lloyd AG and Nippon Yusen Kaisha.

Filing Party: Wayne R. Rohde, Esq.; Cozen O'Connor; 1627 I Street NW; Suite 1100; Washington, DC 20006.

Synopsis: The amendment would convert the agreement from a slot exchange to a one-way slot charter from Hapag-Lloyd to NYK, change the name of the agreement to reflect this revision, make conforming changes throughout the agreement, and restate the agreement.

Agreement No.: 201175-004.

Title: Port of NY/NJ Sustainable Services Agreement.

Parties: APM Terminals North America, Inc..; GCT Bayonne LP; GCT New York LP; Maher Terminals LLC; and Port Newark Container Terminal LLC.

Filing Party: Carol N. Lambos, Esq.; The Lambos Firm, LLP; 303 South Broadway Suite 410; Tarrytown, NY 10591

Synopsis: The amendment changes the name of New York Container Terminal, LLC to GCT New York LP and Global Terminal and Container Services, LLC to GCT Bayonne LP.

Agreement No.: 201210-001.

Title: Port of NY/NJ Port Authority/Marine Terminal Operators Agreement.

Parties: APM Terminals North America, Inc..; GCT Bayonne LP; GCT New York LP; Maher Terminals LLC; and Port Newark Container Terminal LLC.

Filing Party: Carol N. Lambos, Esq.; The Lambos Firm, LLP; 303 South Broadway Suite 410; Tarrytown, NY 10591

Synopsis: The amendment changes the name of New York Container Terminal, LLC to GCT New York LP and Global Terminal and Container Services, LLC to GCT Bayonne LP.

Dated: October 17, 2014.
By Order of the Federal Maritime Commission.
Karen V. Gregory,
Secretary.

[FR Doc. 2014-25149 Filed 10-21-14; 8:45 am]

BILLING CODE 6730-01-P